DEPARTMENT OF DEFENSE

Office of the Secretary

Closed Meeting of the Missile Defense Advisory Committee

AGENCY: Department of Defense; Missile Defense Agency (MDA).

ACTION: Notice.

SUMMARY: Under the provisions of the Federal Advisory Committee Act of 1972 (5 U.S.C., Appendix, as amended) and the Government in the Sunshine Act of 1976 (5 U.S.C. 552b, as amended) and 41 CFR 102-3.150, the Department of Defense announces that the following Federal advisory committee meeting of the Missile Defense Advisory Committee will take place.

DATES: Monday, December 13, 2010, from 8 a.m. to 6 p.m. Security clearance and visit requests are required for access.

ADDRESSES: 7100 Defense Pentagon, Washington, DC 20301-7100.

FOR FURTHER INFORMATION CONTACT: Mr. David Bagnati, Designated Federal Officer at MDAC@mda.mil, phone/voice mail 703-695-6438, or mail at 7100 Defense Pentagon, Washington, DC 20301-7100.

SUPPLEMENTARY INFORMATION: Purpose of the Meeting: At this meeting, the Committee will receive classified information in support of the Fiscal Year 2011 United States Ballistic Missile Defense Cooperation Study.

Agenda: Topics tentatively scheduled for classified discussion include, but are not limited to classified briefings on the Threat; Summary of Past Missile Defense Agency Engagements and Outcomes; Program Budget Review-13 Requirements Driven Strategy; Proposed Cooperative Projects; Perceived Issues and Impediments to Cooperation; Missile Defense Advisory Committee Executive Session; and Missile Defense Advisory Committee outbrief to the Director, Missile Defense Agency.

Meeting Accessibility: Pursuant to 5 U.S.C. 552b, as amended, and 41 CFR 102-3.155 the Missile Defense Agency has determined that the meeting shall be closed to the public. The Director, Missile Defense Agency, in consultation with the Missile Defense Agency Office of General Counsel, has determined in writing that the public interest requires that all sessions of the committee's meeting will be closed to the public because they will be concerned with classified information and matters covered by section 5 U.S.C. 552b(c)(1).

Committee's Designated Federal Officer: Mr. David Bagnati, MDAC@mda.mil, phone/voice mail 703-695-6438, or mail at 7100 Defense Pentagon, Washington, DC 20301-7100.

Written Statements: Pursuant to 41 CFR 102-3.105(j) and 102-3.140, and section 10(a)(3) of the Federal Advisory Committee Act of 1972, the public or interested organizations may submit written statements to the membership of the Missile Defense Advisory Committee about its mission and functions. Written statements may be submitted at any time or in response to the stated agenda of a planned meeting of the Missile Defense Advisory Committee.

All written statements shall be submitted to the Designated Federal Officer for the Missile Defense Advisory Committee, in the following formats: One hard copy with original signature and one electronic copy via e-mail (acceptable file formats: Adobe Acrobat PDF, MS Word or MS PowerPoint), and this individual will ensure that the written statements are provided to the membership for their consideration. Contact information for the Designated Federal Officer is as stated above and can also be obtained from the GSA's Federal Advisory Committee Act Database— https://www.fido.gov/facadatabase/public.asp.

Statements being submitted in response to the agenda mentioned in this notice must be received by the Designated Federal Officer at the address listed at least three calendar days prior to the meeting which is the subject of this notice. Written statements received after this date may not be provided to or considered by the Missile Defense Advisory Committee until its next meeting. The Designated Federal Officer will review all timely submissions with the Missile Defense Advisory Committee Chairperson and ensure they are provided to all members of the Missile Defense Advisory Committee before the meeting that is the subject of this notice.

President Obama, during the November 2010 NATO Meeting in Portugal, announced a new Strategic Concept that focuses the Alliance on ballistic missiles. The timing of the President's announcement was such that the Department of Defense could not include studies pertinent to the initiative in the October 20, 2010 Missile Defense Advisory Committee's FY11 Study's terms of reference. Due to the timing of the President's initiative and subsequent decision to include this matter on the Committee's FY11 Study's terms of reference and December 13th meeting agenda, the Department of Defense was unable to process the Federal Register notice for the Missile Defense Advisory Committee's December 13, 2010 meeting as required by 41 CFR 102-3.150(a). Accordingly, the Advisory Committee Management Officer for the Department of Defense, pursuant to 41 CFR 102-3.150(b), waives the 15-calendar day notification requirement.

Dated: December 8, 2010.
Morgan F. Park,
Alternate OSD Federal Register Liaison Officer, Department of Defense.

[FR Doc. 2010-31246 Filed 12-13-10; 8:45 am]

BILLING CODE 5001-06-P